INTERNATIONAL TRADE COMMISSION

[Investigations Nos. 701-TA-432 and 731-TA-1024-1028 (Final)]

Prestressed Concrete Steel Wire Strand from Brazil, India, Korea, Mexico, and Thailand

AGENCY: International Trade Commission.

ACTION: Revised schedule for the subject investigations.

EFFECTIVE DATE: December 18, 2003.

FOR FURTHER INFORMATION CONTACT: Mary Messer (202-205-3193), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for these investigations may be viewed on the Commission's electronic docket (EDIS) at http://edis.usitc.gov.

SUPPLEMENTARY INFORMATION: Effective July 16, 2003, the Commission established a schedule for the conduct of the final phase of the subject investigations (68 FR 52614, September 4, 2003). By Executive Order announced on December 9, 2003, the Executive Departments and Agencies of the Federal Government are scheduled to close on Friday, December 26, 2003. The Commission, therefore, is revising its schedule as follows: the Commission will make its final release of information on December 29, 2003 and final party comments are due on January 2, 2004.

For further information concerning these investigations see the Commission's notice cited above and the Commission's Rules of Practice and Procedure, part 201, subparts A through E (19 CFR part 201), and part 207, subparts A and C (19 CFR part 207).

Authority: These investigations are being conducted under authority of title VII of the Tariff Act of 1930; this notice is published pursuant to § 207.21 of the Commission's rules.

Issued: December 19, 2003.
By order of the Commission.
Marilyn R. Abbott,
Secretary to the Commission.

[FR Doc. 03-31690 Filed 12-22-03; 8:45 am]

BILLING CODE 7020-02-P